DEPARTMENT OF ENERGY

Federal Energy Regulatory Commission

[Project No. 606-027—California]

Pacific Gas & Electric Company; Notice of Public Meeting on Draft Environmental Impact Statement

July 29, 2010.

The Federal Energy Regulatory Commission (Commission) hereby gives notice that members of its staff will conduct a second public meeting on the draft environmental impact statement (Draft EIS) for the Kilarc-Cow Creek Hydroelectric Project (FERC Project No. 606-027). In addition to or in lieu of sending written comments on the Draft EIS, you are invited to attend a second public meeting that will be held to receive comments on the Draft EIS. The time and location of this public meeting is as follows:

Kilarc-Cow Creek Project Second Public Meeting

Date: August 17, 2010.

Time: 6 to 8 p.m. (PST).

Place: Whitmore Community Center.

Address: 30555 Whitmore Road, P.O. Box 287, Whitmore, CA 96096.

Telephone: (530) 472-6463.

The purpose of this meeting is to solicit comments on the Draft EIS prepared as part of processing the surrender of license application for the Kilarc-Cow Creek Project. The Draft EIS was issued and publicly noticed on June 22, 2010, and is available for review on the Commission's Web site at http://www.ferc.gov, under the “eLibrary” link. Enter the docket number (e.g., P-606) excluding the last three digits in the docket number field to access the document. For assistance, contact FERC Online Support at FERCOnlineSupport@ferc.gov or toll-free at 1-866-208-3676, or for TTY, (202) 502-8659.

The Kilarc-Cow Creek Project is located on the Old Cow Creek, South Cow Creek, and tributaries in Shasta County, California. The project contains 1.87 acres that are held in trust by the United States under the jurisdiction of the Bureau of Indian Affairs. The licensee of the project is Pacific Gas and Electric Company.

This meeting is open to the public. At this meeting, State and Federal resource agency personnel, Indian tribes, non-governmental organizations, and other interested persons will have the opportunity to provide oral and/or written comments regarding the Draft EIS. The meeting will be recorded by a court reporter, and all statements (verbal and written) will become part of the Commission's public record for the project. This meeting will be posted on the Commission's calendar located at http://www.ferc.gov/EventCalendar/EventsList.aspx along with other related information.

The deadline for filing comments on the Draft EIS is August 25, 2010. Comments should be filed with: Kimberly D. Bose, Secretary, Federal Energy Regulatory Commission, 888 First Street, NE., Washington, DC 20426. Comments should reference Project No. 606-027 (Kilarc-Cow Creek Project). Comments may be filed electronically via the Internet in lieu of paper. The Commission strongly encourages electronic filings. See 18 CFR 385.2001(a)(1)(iii) and instructions on the Commission's Web site at http://www.ferc.gov under the eLibrary link.

For further information on this project, contact the environmental coordinator CarLisa Linton-Peters at (202) 202-8416, or at carlisa.linton-peters@ferc.gov.

Kimberly D. Bose,
Secretary.

[FR Doc. 2010-19230 Filed 8-4-10; 8:45 am]

BILLING CODE 6717-01-P